SMALL BUSINESS ADMINISTRATION

[Disaster Declaration # 13103 and # 13104]

Florida Disaster Number FL-00071

AGENCY: U.S. Small Business Administration.

ACTION: Amendment 4.

SUMMARY: This is an amendment of the Presidential declaration of a major disaster for the State of Florida (FEMA-4068-DR), dated 07/03/2012.

Incident: Tropical Storm Debby.

Incident Period: 06/23/2012 and continuing.

Effective Date: 07/17/2012.

Physical Loan Application Deadline Date: 09/04/2012.

EIDL Loan Application Deadline Date: 04/03/2013.

ADDRESSES: Submit completed loan applications to: U.S. Small Business Administration, Processing And Disbursement Center, 14925 Kingsport Road, Fort Worth, TX 76155.

FOR FURTHER INFORMATION CONTACT: A. Escobar, Office of Disaster Assistance, U.S. Small Business Administration, 409 3rd Street SW., Suite 6050, Washington, DC 20416

SUPPLEMENTARY INFORMATION: The notice of the Presidential disaster declaration for the State of Florida, dated 07/03/2012 is hereby amended to include the following areas as adversely affected by the disaster:

Primary Counties: (Physical Damage and Economic Injury Loans):

Citrus, Gilchrist, Lafayette, Polk, Sarasota.

Contiguous Counties: (Economic Injury Loans Only):

Florida: Lake, Levy, Marion, Orange.

All other information in the original declaration remains unchanged.

(Catalog of Federal Domestic Assistance Numbers 59002 and 59008)

James E. Rivera,
Associate Administrator for Disaster Assistance.

[FR Doc. 2012-18002 Filed 7-23-12; 8:45 am]

BILLING CODE 8025-01-P